DEPARTMENT OF ENERGY

National Coal Council

AGENCY: Department of Energy.

ACTION: Notice of Open Meeting.

SUMMARY: This notice announces a meeting of the National Coal Council (NCC). The Federal Advisory Committee Act (Pub. L. 92-463, 86 Stat. 770) requires that public notice of these meetings be announced in the Federal Register.

DATES: Friday December 4, 2009; 9 a.m. to 12 p.m.

ADDRESSES: W Hotel, 515 15th Street NW., Washington, DC 20004.

FOR FURTHER INFORMATION CONTACT: Michael J. Ducker, U.S. Department of Energy; 4G-036/Forrestal Building, 1000 Independence Avenue, SW., Washington, DC 20585-1290; Telephone: 202-586-7810.

SUPPLEMENTARY INFORMATION: Purpose of Meeting: To conduct an open meeting of the NCC and to provide a presentation on the new study conducted by the Council on carbon capture and storage technologies for use on coal-based electricity generation plants.

Agenda

• Welcome and Call to Order by NCC Chair Michael Mueller.

• Remarks by Secretary Stephen Chu, Department of Energy.

• Presentation by David Surber of the 25th Anniversary Video

• Presentation by Fred Palmer, NCC Coal Policy Committee Chairman, on the New Council Study.

• Council Business:

○ Finance Report by Committee Chairman Joe Hopf.

○ Secretary's Report by NCC Secretary Larry Grimes.

• Presentation by Thomas Kerr, International Energy Agency, on the IEA Carbon Capture and Storage Roadmap.

• Other Business.

• Adjourn.

Public Participation: The meeting is open to the public. If you would like to file a written statement with the Committee, you may do so either before or after the meeting. If you would like to make oral statements regarding any potential items on the agenda, you should contact Michael J. Ducker, 202-586-7810 or Michael.Ducker@HQ.DOE.GOV (e-mail). You must make your request for an oral statement at least 5 business days before the meeting. Reasonable provision will be made to include the scheduled oral statements on the agenda. The Chairperson of the Committee will conduct the meeting to facilitate the orderly conduct of business. Public comment will follow the 10-minute rule.

Minutes: The NCC will prepare meeting minutes within 45 days of the meeting. The minutes will be posted on the NCC Web site at http://www.nationalcoalcouncil.org/.

Issued at Washington, DC on November 9, 2009.
Rachel Samuel,
Deputy Committee Management Officer.

[FR Doc. E9-27619 Filed 11-16-09; 8:45 am]

BILLING CODE 6450-01-P